DEPARTMENT OF COMMERCE

International Trade Administration

[A-570-093]

Refillable Stainless Steel Kegs From the People's Republic of China: Preliminary Results of the Antidumping Duty Administrative Review; 2021-2022

AGENCY: Enforcement and Compliance, International Trade Administration, Department of Commerce.

SUMMARY: The U.S. Department of Commerce (Commerce) preliminarily determines that certain producers and/or exporters made sales of refillable stainless steel kegs (kegs) at less than normal value during the period of review (POR) April 1, 2021, through March 31, 2022. Interested parties are invited to comment on the preliminary results of this review.

DATES: Applicable December 7, 2023.

FOR FURTHER INFORMATION CONTACT: Aleksandras Nakutis and Jacob Keller, AD/CVD Operations, Office I, Enforcement and Compliance, International Trade Administration, U.S. Department of Commerce, 1401 Constitution Avenue NW, Washington, DC 20230; telephone: (202) 482-3147 and (202) 482-4849, respectively.

SUPPLEMENTARY INFORMATION:

Background

On December 16, 2019, Commerce published in the Federal Register the AD order on kegs from China.¹ On December 1, 2022, Commerce published a notice of opportunity to request an administrative review of the Order, covering the POR, pursuant to section 751(a)(1) of the Tariff Act of 1930, as amended (the Act).² On February 2, 2023, based on timely requests for review, Commerce initiated an administrative review of the Order covering the POR.³ On March 6, 2023, Guangzhou Ulix Industrial & Trading Co., Ltd., (Ulix) and Guangzhou Jingye Machinery Co., Ltd., (Jingye) each timely filed a no-shipment certification (NSC) and a separate rate certification.⁴ This administrative review covers 41 companies.⁵

¹ See Refillable Stainless Steel Kegs from the Federal Republic of Germany and the People's Republic of China: Antidumping Duty Orders, 84 FR 68405 (December 16, 2019) (Order).

² See Antidumping or Countervailing Duty Order, Finding, or Suspended Investigation; Opportunity to Request Administrative Review and Join Annual Inquiry Service List, 87 FR 73752 (December 1, 2022).

³ See Initiation of Antidumping and Countervailing Duty Administrative Reviews, 88 FR 7060 (February 2, 2023) (Initiation Notice).

⁴ See Ulix's Letter, “Separate Rate Certification,” dated March 6, 2023; see also Jingye's Letter, “No Sales & Separate Rate Certification,” dated March 6, 2023.

⁵ See Memorandum, “Respondent Selection,” dated September 14, 2022.

Scope of the Order

The merchandise covered by this Order are kegs, vessels, or containers with bodies that are approximately cylindrical in shape, made from stainless steel (i.e., steel containing at least 10.5 percent chromium by weight and less than 1.2 percent carbon by weight, with or without other elements), and that are compatible with a “D Sankey” extractor (refillable stainless steel kegs) with a nominal liquid volume capacity of 10 liters or more, regardless of the type of finish, gauge, thickness, or grade of stainless steel, and whether or not covered by or encased in other materials. The merchandise covered by the orders are currently classified in the Harmonized Tariff Schedule of the United States (HTSUS) under subheadings 7310.10.0010, 7310.10.0050, 7310.29.0025, and 7310.29.0050. These HTSUS subheadings are provided for convenience and customs purposes; the written description of the scope of the orders is dispositive. A full description of the scope of the Order is provided in the Preliminary Decision Memorandum.⁶

⁶ See Memorandum, “Decision Memorandum for the Preliminary Results of the Antidumping Duty Administrative Review of Refillable Stainless Steel Kegs from the People's Republic of China; 2021-2022,” dated concurrently with, and hereby adopted by, this notice (Preliminary Decision Memorandum).

Preliminary Results and Referral to U.S. Customs and Border Protection

Based on record information, Commerce preliminarily determine that all 41 companies subject to this administrative review are a part of the China-wide entity.⁷ Regarding Jingye and Ulix's NSCs, we preliminarily determine these responses to be unreliable and that use of facts otherwise available with an adverse inference is warranted, pursuant to sections 776(a)-(b) of the Act, to determine that Jingye and Ulix have not substantiated their NSCs. Moreover, for reasons discussed in the Preliminary Decision Memorandum, Commerce is preliminarily treating Jingye and Ulix as part of the China-wide entity and Commerce is referring its preliminary findings to U.S. Customs and Border Protection (CBP) to investigate evasion of the Order.

⁷ See Appendix II.

China-Wide Entity

Under Commerce's policy regarding the conditional review of the China-wide entity,⁸ the China-wide entity will not be under review unless a party specifically requests, or Commerce self-initiates, a review of the entity. Because no party requested a review of the China-wide entity in this review, the entity is not under review, and the entity's rate (i.e., 77.13 percent) is not subject to change.⁹ Commerce considers the 41 companies for which a review was requested (which did not file a separate rate application or did not demonstrate separate rate eligibility) listed in Appendix II to this notice, to be part of the China-wide entity.¹⁰

⁸ See Antidumping Proceedings: Announcement of Change in Department Practice for Respondent Selection in Antidumping Duty Proceedings and Conditional Review of the Nonmarket Economy Entity in NME Antidumping Duty Proceedings, 78 FR 65963 (November 4, 2013).

⁹ See Order.

¹⁰ See Initiation Notice (“All firms listed below that wish to qualify for separate rate status in the administrative reviews involving NME countries must complete, as appropriate, either a separate rate application or certification, as described below.”); see also Appendix II for the list of companies that are subject to this administrative review that are considered to be part of the China-wide entity.

Methodology

Commerce is conducting this review in accordance with section 751(a)(1)(B) of the Act. For a full description of the methodology underlying our conclusions, see the Preliminary Decision Memorandum. A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

Public Comment

Pursuant to 19 CFR 351.309(c), interested parties may submit case briefs no later than 30 days after the date of publication of this notice. Rebuttal briefs, limited to issues raised in the case briefs, may be filed not later than five days after the date for filing case briefs.¹¹ Interested parties who submit case briefs or rebuttal briefs in this proceeding must submit: (1) a table of contents listing each issue; and (2) a table of authorities.¹²

¹¹ See 19 CFR 351.309(d); see also Administrative Protective Order, Service, and Other Procedures in Antidumping and Countervailing Duty Proceedings, 88 FR 67069, 67077 (September 29, 2023) (APO and Service Final Rule).

¹² See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹³ Further, we request that interested parties limit their executive summary of each issue to no more than 450 words, not including citations. We intend to use the executive summaries as the basis of the comment summaries included in the issues and decision memorandum that will accompany the final determination in this review. We request that interested parties include footnotes for relevant citations in the executive summary of each issue. Note that Commerce has amended certain of its requirements pertaining to the service of documents in 19 CFR 351.303(f).¹⁴

¹³ We use the term “issue” here to describe an argument that Commerce would normally address in a comment of the Issues and Decision Memorandum.

¹⁴ See APO and Service Final Rule.

Pursuant to 19 CFR 351.310(c), interested parties who wish to request a hearing, limited to issues raised in the case and rebuttal briefs, must submit a written request to the Assistant Secretary for Enforcement and Compliance, U.S. Department of Commerce, within 30 days after the publication of this notice. Requests should contain the party's name, address, telephone number, the number of participants, whether any participant is a foreign national, and a list of the issues to be discussed. If a request for a hearing is made, Commerce intends to hold the hearing at a time and date to be determined. Parties should confirm by telephone the date, time, and location of the hearing two days before the scheduled date.

Unless the deadline is extended, Commerce intends to issue the final results of this review, including the results of its analysis of the issues raised in any written briefs, no later than 120 days after the date of publication of this notice, pursuant to section 751(a)(3)(A) of the Act and 19 CFR 351.213(h).

Assessment Rates

Upon issuing the final results, Commerce will determine, and CBP shall assess, antidumping duties on all appropriate entries covered by this review.¹⁵ If the preliminary results are unchanged for the final results, we will instruct CBP to apply an ad valorem assessment rate of 77.13 percent to all entries of subject merchandise during the POR which were exported by the companies considered to be a part of the China-wide entity listed in Appendix II of this notice.

¹⁵ See 19 CFR 351.212(b)(1).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by section 751(a)(2)(C) of the Act: (1) for all Chinese exporters of subject merchandise that have not been found to be entitled to a separate rate, the cash deposit rate will be that for the China-wide entity; and (2) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of the countervailing duties.

Notification to Interested Parties

Commerce is issuing and publishing the preliminary results of this review in accordance with sections 751(a)(1)(B), 751(a)(3) and 777(i) of the Act, and 19 CFR 351.213(d)(4) and 351.221(b)(4).

Dated: November 30, 2023.
Abdelali Elouaradia,
Deputy Assistant Secretary for Enforcement and Compliance.

Appendix I

List of Topics Discussed in the Preliminary Decision Memorandum

I. Summary

II. Background

III. Scope of the Order

IV. No-Shipment Certifications and Referral to CBP of Evasion

V. Discussion of the Methodology

VI. Recommendation

Appendix II

Companies Considered To Be Part of the China-Wide Entity

1. Dalian Yonghseng Metal Structure Co., Ltd. d/b/a DYM Brewing Solutions

2. Equipmentimes (Dalian) E-Commerce Co., Ltd.

3. Guangzhou Jingye Machinery Co., Ltd.

4. Guangzhou Ulix Industrial & Trading Co., Ltd.

5. Jinan Chenji International Trade Co., Ltd.

6. Jinan Chenji Machinery Equipment Co., Ltd.

7. Jinan HaoLu Machinery Equipment Co., Ltd.

8. Jinjiang Jiaxing Import and Export Co., Ltd.

9. NDL Keg Qingdao Inc.

10. Ningbo All In Brew Technology Co.

11. Ningbo BestFriends Beverage Containers Industry Co., Ltd.

12. Ningbo Chance International Trade Co., Ltd.

13. Ningbo Direct Import & Export Co., Ltd.

14. Ningbo Haishu Direct Import and Export Trade Co., Ltd.

15. Ningbo Haishu Xiangsheng Metal Factory

16. Ningbo Hefeng Container Manufacturer Co., Ltd.

17. Ningbo Hefeng Kitchen Utensils Manufacture Co., Ltd.

18. Ningbo HGM Food Machinery Co., Ltd.

19. Ningbo Jiangbei Bei Fu Industry and Trade Co., Ltd.

20. Ningbo Kegco International Trade Co., Ltd.

21. Ningbo Kegstorm Stainless Steel Co., Ltd.

22. Ningbo Minke Import & Export Co., Ltd.

23. Ningbo Sanfino Import & Export Co., Ltd.

24. Ningbo Shimaotong International Co., Ltd.

25. Ningbo Sunburst International Trading Co., Ltd.

26. Orient Equipment (Taizhou) Co., Ltd.

27. Penglai Jinfu Stainless Steel Products.

28. Pera Industry Shanghai Co., Ltd.

29. Qingdao Henka Precision Technology Co., Ltd.

30. Qingdao Xinhe Precision Manufacturing Co., Ltd.

31. Rain Star International Trading Dalian Co., Ltd.

32. Shandong Meto Beer Equipment Co., Ltd.

33. Shandong Tiantai Beer Equipment Co., Ltd.

34. Shandong Tonsen Equipment Co., Ltd.

35. Shandong Yuesheng Beer Equipment Co., Ltd.

36. Shenzhen Wellbom Technology Co., Ltd.

37. Sino Dragon Group, Ltd.

38. Wenzhou Deli Machinery Equipment Co.

39. Wuxi Taihu Lamps and Lanterns Co., Ltd.

40. Yantai Toptech Ltd.

41. Yantai Trano New Material Co., Ltd., d/b/a Trano Keg, d/b/a SS Keg.

[FR Doc. 2023-26858 Filed 12-6-23; 8:45 am]

BILLING CODE 3510-DS-P